DEPARTMENT OF THE INTERIOR

National Park Service

Notice of Intent to Repatriate Cultural Items: U.S. Department of Defense, Department of the Army, U.S. Army Intelligence Center and Fort Huachuca, Fort Huachuca, AZ

AGENCY: National Park Service, Interior.

ACTION: Notice.

Notice is here given in accordance with the Native American Graves Protection and Repatriation Act (NAGPRA), 43 CFR 10.8 (f), of the intent to repatriate cultural items in the possession of the U.S. Department of Defense, Department of the Army, U.S. Army Intelligence Center and Fort Huachuca, Fort Huachuca, AZ, that meet the definition of unassociated funerary objects under 25 U.S.C. 3001 (3)(B).

This notice is published as part of the National Park Service's administrative responsibilities under NAGPRA, 43 CFR 10.8 (f). The determinations within this notice are the sole responsibility of the museum, institution, or Federal agency that has control of the cultural items. The National Park Service is not responsible for the determinations within this notice.

The eight unassociated funerary objects are one group of shell ornaments, two ceramic vessels, one ceramic dice cup, one ceramic figurine, two stone effigies, and one stone rasp.

The funerary objects were recovered in association with a cremation burial from excavations at the Garden Canyon site, AZ EE:11:13 (ASM), Fort Huachuca, AZ, conducted by a University of Arizona graduate student in 1964 with permission from Fort Huachuca. Between 1964 and July 2003, the funerary objects and human remains were curated at the Fort Huachuca History Museum.

When collections from the Fort Huachuca History Museum were transferred to the Environmental and Natural Resources Division at Fort Huachuca in July 2003, the human remains could not be located.

The context and style of artifacts recovered from the Garden Canyon site are representative of the archeological Hohokam culture as defined in the Phoenix and Tucson Basins. While there are no radiocarbon dates from the Garden Canyon site, radiocarbon dates from Hohokam sites in other parts of Arizona suggest a temporal context for the Garden Canyon site of approximately A.D. 600-1400. The Ak Chin Indian Community of the Maricopa (Ak Chin) Indian Reservation, Arizona; Gila River Indian Community of the Gila River Indian Reservation, Arizona; Hopi Tribe of Arizona; Salt River Pima-Maricopa Indian Community of the Salt River Reservation, Arizona; and Tohono O'odham Nation of Arizona claim the archeological Hohokam culture as ancestral. The Ak Chin Indian Community of the Maricopa (Ak Chin) Indian Reservation, Arizona; Gila River Indian Community of the Gila River Indian Reservation, Arizona; Hopi Tribe of Arizona; Salt River Pima-Maricopa Indian Community of the Salt River Reservation, Arizona; and Tohono O'odham Nation of Arizona agree that the Tohono O'odham Nation of Arizona will assume responsibility for the repatriation and reburial of the unassociated funerary objects.

Officials of the U.S. Army Intelligence Center and Fort Huachuca have determined that the cultural items described in this notice meet the definition of unassociated funerary objects at 25 U.S.C. 3001 (3)(B): the cultural items are reasonably believed to have been placed with or near individual human remains at the time of death or later as part of the death rite or ceremony and are believed, by a preponderance of the evidence, to have been removed from a specific burial site of a Native American individual. Officials of the U.S. Army Intelligence Center and Fort Huachuca also have determined that, according to the definition of cultural affiliation at 25 U.S.C. 3001 (2), there is a relationship of shared group identity that can be reasonably traced between the unassociated funerary objects and the Ak Chin Indian Community of the Maricopa (Ak Chin) Indian Reservation, Arizona; Gila River Indian Community of the Gila River Indian Reservation, Arizona; Hopi Tribe of Arizona; Salt River Pima-Maricopa Indian Community of the Salt River Reservation, Arizona; and Tohono O'odham Nation of Arizona.

Representatives of any other Indian tribe that believes itself to be culturally affiliated with the unassociated funerary objects should contact Charles Slaymaker, Ph.D., Department of the Army, U.S. Army Intelligence Center and Fort Huachuca, Fort Huachuca, AZ 85613, telephone (520) 533-9089, before April 26, 2004. Repatriation of the unassociated funerary objects to the Tohono O'odham Nation of Arizona may proceed after that date if no additional claimants come forward.

The U.S. Army Intelligence Center and Fort Huachuca is responsible for notifying the

Ak Chin Indian Community of the Maricopa (Ak Chin) Indian Reservation, Arizona; Fort Sill Apache Tribe of Oklahoma; Gila River Indian Community of the Gila River Indian Reservation, Arizona; Hopi Tribe of Arizona; Mescalero Apache Tribe of the Mescalero Reservation, New Mexico; Pascua Yaqui Tribe of Arizona; Salt River Pima-Maricopa Indian Community of the Salt River Reservation, Arizona; San Carlos Apache Tribe of the San Carlos Reservation, Arizona; Tohono O'odham Nation of Arizona; White Mountain Apache Tribe of the Fort Apache Reservation, Arizona; and Zuni Tribe of the Zuni Reservation, New Mexico that this notice has been published.

Dated: January 29, 2004.
John Robbins,
Assistant Director, Cultural Resources.

[FR Doc. 04-6651 Filed 3-24-04; 8:45 am]

BILLING CODE 4310-50-S